DEPARTMENT OF HEALTH AND HUMAN SERVICES

Agency for Healthcare Research and Quality

Meeting of the Citizens' Health Care Working Group

AGENCY: Agency for Healthcare Research and Quality (AHRQ).

ACTION: Notice of public meeting.

SUMMARY: In accordance with section 10(a) of the Federal Advisory Committee Act, this notice announces the first meeting of the Citizens' Health Care Working Group mandated by section 1014 of the Medicare Modernization Act.

DATES: The meeting will be held on Wednesday, May 11 and Thursday, May 12, 2005 from 8:30 a.m. to 5 p.m. and Friday, May 13, 2005 from 8:30 a.m. to 3:30 p.m.

ADDRESSES: The meeting will be held at the Hampton Inn & Suites Reagan National Airport, 2000 Jefferson Davis Highway, Arlington, Virginia. The meeting is open to the public.

FOR FURTHER INFORMATION CONTACT: Ken Cohen, Citizens' Health Care Working Group, at (301) 443-1489 or citizenshealth@ahrq.gov. If sign language interpretation or other reasonable accommodation for a disability is needed, please contact Mr. Donald L. Inniss, Director, Office of Equal Employment Opportunity Program, Program Support Center, on (301) 443-1144 no later than May 2, 2005.

The agenda and roster will be available on the Citizens' Health Care Working Group Web site, www.citizenshealth.ahrq.gov, which will be operational in early May. When a transcription of the Working Group's April 11 and 12 meeting is completed, it will be made available on the website.

SUPPLEMENTARY INFORMATION: Section 1014 of Public Law 108-173, the Medicare Modernization Act (42 U.S.C. 299 note) directs the Secretary of the Department of Health and Human Services (DHHS), acting through the Agency for Healthcare Research and Quality, to establish a Citizens' Health Care Working Group (Working Group). The statute charges the Working Group to: (1) Identify options for changing our health care system so that every American has the ability to obtain quality, affordable health care coverage; (2) provide for a nationwide public debate about improving the health care system; and (3) submit their recommendations to the President and the Congress.

The Citizens' Health Care Working Group is composed of 15 members: the Secretary of DHHS is designated as a member by the statute and the Comptroller General of the U.S. Government Accountability Office (GAO) is directed to appoint the remaining 14 members. The Comptroller General announced the 14 appointments on February 28, 2005. A list of the Working Group members is available on the GAO Web site (http://www.gao.gov.).

Agenda

This meeting will include three components: (1) Briefings for the Working Group on aspects of the health care system that the statute requires then to address; (2) hearings on two broad topics, the uninsured and drivers of health care costs; and (3) a portion of each day will be devoted to ongoing Working Group business.

The briefings will address the following topics: overview of the health care system, public insurance programs (Medicare, Medicaid, and State Childrens' Health Insurance Program), the private health insurance market, the uninsured, and drivers of health care costs.

The hearings portion of the meeting is expected to address the following issues: public and private sector initiatives to expand health insurance coverage and public or private sector initiatives to control costs.

The business portions of the meeting on each day will include discussions of future field hearings, the required Report of the American People, and begin the discussion of approaches for conducting the community meetings required by the statute.

The official agenda will be available on the Working Group's website.

Submission of Written Information

Individuals or organizations wishing to provide written information for consideration by the Working Group should submit information electronically to citizenshealth@ahrq.gov. Targeted but separate submissions that address the following topics are encouraged: (1) The issues that will be addressed to the May meeting; (2) the issues that the statute requires the Report to the American People to address; (3) examples of innovative public or private sector initiatives to address the issues that the statute requires the hearings or Report to address; or (4) approaches that the Working Group should consider in developing the strategies and framework for the community meetings envisioned in the statute. If an individual or organization wishes to address more than one of these topics, separate submissions are requested. Because all electronic submissions will be posted on the Working Group web site, separate submissions will facilitate review of ideas submitted on each topic by the Working Group and the public.

Dated: April 25, 2005.
Carolyn M. Clancy,
Director.

[FR Doc. 05-8533 Filed 4-28-05; 8:45 am]

BILLING CODE 4160-90-M